LIBRARY OF CONGRESS

Copyright Royalty Board

[CONSOLIDATED Docket No. 16-CRB-0009 CD (2014-17); CONSOLIDATED Docket No. 16-CRB-0010-SD (2014-17)]

Distribution of Cable and Satellite Royalty Funds

AGENCY: Copyright Royalty Board, Library of Congress.

ACTION: Notice of consolidation of dockets and request for comments.

SUMMARY: The Copyright Royalty Judges (Judges) are requesting comments regarding whether controversies exist among claimants relating to distribution of the cable and satellite television retransmission royalty funds deposited with the U.S. Copyright Office for royalty years 2014 through 2017.

DATES: Comments are due on or before December 10, 2018.

ADDRESSES: You may submit comments regarding cable distribution controversies, identified by CONSOLIDATED Docket No. 16-CRB-0009 CD (2014-17), and comments regarding satellite distribution controversies, identified by CONSOLIDATED Docket No. 16-CRB-0010-SD (2014-17), by any of the following methods:

CRB's electronic filing application: Submit comments online in eCRB at https://app.crb.gov/.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE, Washington, DC 20559-6000. Deliver to: Congressional Courier Acceptance Site, 2nd Street NE and D Street NE, Washington, DC; or

Hand delivery: Library of Congress, James Madison Memorial Building, LM-401, 101 Independence Avenue SE, Washington, DC 20559-6000.

Instructions: Unless submitting online, commenters must submit an original, two paper copies, and an electronic version on a CD. All submissions must include a reference to the CRB and one of the docket numbers. All submissions will be posted without change to eCRB at https://app.crb.gov/ including any personal information provided. Electronic documents (including those submitted on CD together with paper copies) should conform to the Judges' regulations at 37 CFR 350.3 and 350.5.

Docket: For access to the docket to read submitted background documents or comments, go to eCRB, the Copyright Royalty Board's electronic filing and case management system, at https://app.crb.gov/ and search for docket numbers 16-CRB-0009 CD (2014-17) or 16-CRB-0010-SD (2014-17).

FOR FURTHER INFORMATION CONTACT: Anita Blaine-Brown, CRB Program Specialist, by telephone at (202) 707-7658, or by email at crb@loc.gov.

SUPPLEMENTARY INFORMATION: Each year cable systems and satellite carriers must submit royalty payments to the Register of Copyrights as required by the statutory licenses described in sections 111 and 119 of the Copyright Act for the retransmission to cable and satellite subscribers, respectively, of over-the-air television and radio broadcast signals. See 17 U.S.C. 111(d), 119(b). The deposited royalties are to be distributed to copyright owners whose works were included in a qualifying transmission and who timely filed claims for royalties. Distribution of the deposited royalties occurs in one of two ways. In the first instance, the Judges may distribute royalty funds in accordance with a negotiated settlement among eligible claimants. 17 U.S.C. 111(d)(4)(A), 119(b)(5)(A). If the Judges determine there is a controversy regarding royalty distribution, the Judges conduct a proceeding to determine distribution of any royalties that remain in controversy. 17 U.S.C. 111(d)(4)(B), 119(b)(5)(B).

By Orders dated November 5, 2018, the Judges consolidated the dockets, assigning the cable distribution matters to CONSOLIDATED Docket No. 16-CRB-0009 CD (2014-17) and assigning the satellite distribution matters to CONSOLIDATED Docket No. 16-CRB-0010-SD (2014-17). The Judges seek comments on the existence and extent of any controversies regarding distribution of the 2014 through 2017 cable and satellite royalty funds.

Dated: November 5, 2018.
Suzanne Barnett,
Chief U.S. Copyright Royalty Judge.

[FR Doc. 2018-24516 Filed 11-8-18; 8:45 am]

BILLING CODE 1410-72-P